DEPARTMENT OF TRANSPORTATION

Federal Aviation Administration

14 CFR Part 39

[Docket No. 2002-SW-21-AD; Amendment 39-12836; AD 2002-13-51]

RIN 2120-AA64

Airworthiness Directives; Model HH-1K, TH-1F, TH-1L, UH-1A, UH-1B, UH-1E, UH-1F, UH-1H, UH-1L, and UH-1P; and Southwest Florida Aviation SW204, SW204HP, SW205, and SW205A-1 Helicopters Manufactured by Bell Helicopter Textron, Inc. for the Armed Forces of the United States

AGENCY: Federal Aviation Administration, DOT.

ACTION: Final rule; request for comments.

SUMMARY: This document publishes in the Federal Register an amendment adopting Airworthiness Directive (AD) 2002-13-51, sent previously to all known U.S. owners and operators of the specified helicopters by individual letters. This AD requires cleaning and inspecting a certain tail rotor (T/R) grip with a magnet to determine if it is made of steel. If it is not made of steel, this AD requires replacing each affected T/R grip with an airworthy, steel T/R grip. This AD is prompted by reports of timed-out T/R grips being improperly remarked and reinstalled on certain helicopters. This unsafe condition, if not detected, could result in failure of the T/R grip and subsequent loss of control of the helicopter.

DATES: Effective August 19, 2002, to all persons except those persons to whom it was made immediately effective by Emergency AD 2002-13-51, issued on June 27, 2002, which contained the requirements of this amendment.

Comments for inclusion in the Rules Docket must be received on or before October 1, 2002.

ADDRESSES: Submit comments in triplicate to the Federal Aviation Administration (FAA), Office of the Regional Counsel, Southwest Region, Attention: Rules Docket No. 2002-SW-21-AD, 2601 Meacham Blvd., Room 663, Fort Worth, Texas 76137. You may also send comments electronically to the Rules Docket at the following address: 9-asw-adcomments@faa.gov.

FOR FURTHER INFORMATION CONTACT: Kennedy Jones, Aviation Safety Engineer, FAA, Rotorcraft Directorate, Rotorcraft Certification Office, Fort Worth, Texas 76193-0170, telephone (817) 222-5148, fax (817) 222-5783.

SUPPLEMENTARY INFORMATION: The FAA issued Emergency AD (EAD) 2002-08-53, Docket No. 2002-SW-23-AD, on April 22, 2002, and superseding EAD 2002-09-51, Docket No. 2002-SW-24-AD, on May 9, 2002, for Bell Helicopter Textron, Inc. (Bell) Model 204B, 205A, A-1, and B helicopters. That EAD requires cleaning and inspecting T/R grip, part number (P/N) 204-011-728-019, with a magnet to determine if it is made of steel. If it is not made of steel, the current EAD requires replacing the T/R grip with an airworthy steel T/R grip. According to reports, T/R grips, P/N 204-011-728-019, removed from service on the Bell Model 204B and 205A-1 helicopters as required by AD 73-17-04 (38 FR 22223, August 17, 1973), were re-marked as P/N 205-011-711-101 and may have been installed on Bell Model 204 and 205 helicopters. These T/R grips may also be installed on similar restricted category military surplus helicopters.

On June 27, 2002, the FAA issued EAD 2002-13-51 for the specified model helicopters, which requires cleaning the T/R grip, determining if it is made of steel, and replacing the T/R grip with an airworthy T/R grip if the main body is not made of steel. That action was prompted by reports of timed-out T/R grips being improperly remarked and reinstalled on certain helicopters. This unsafe condition, if not detected, could result in failure of the T/R grip and subsequent loss of control of the helicopter.

This unsafe condition is likely to exist or develop on certain restricted category helicopters of these same type designs. Therefore, the FAA issued EAD 2002-13-51 to prevent failure of the T/R grip and subsequent loss of control of the helicopter. The AD requires cleaning the affected T/R grip, inspecting the T/R grip by placing a magnet on the exterior of the main body of the T/R grip to determine if the T/R grip is made of steel, and replacing any T/R grip not made of steel. The short compliance time involved is required because the previously described critical unsafe condition can adversely affect the structural integrity and controllability of the helicopter. Therefore, cleaning, inspecting, and determining if the T/R grip is made of steel and replacing any T/R grip not made of steel are required before further flight, and this AD must be issued immediately.

Since it was found that immediate corrective action was required, notice and opportunity for prior public comment thereon were impracticable and contrary to the public interest; and good cause existed to make the AD effective immediately by individual letters issued on June 27, 2002, to all known U.S. owners and operators of Model HH-1K, TH-1F, TH-1L, UH-1A, UH-1B, UH-1E, UH-1F, UH-1H, UH-1L, and UH-1P; and Southwest Florida Aviation SW204, SW204HP, SW205, and SW205A-1 helicopters manufactured by Bell for the Armed Forces of the United States. These conditions still exist, and the AD is hereby published in the Federal Register as an amendment to 14 CFR 39.13 to make it effective to all persons.

The FAA estimates that this AD will affect 75 helicopters of U.S. registry and will take approximately 2 work hours per helicopter to accomplish the required actions at an average labor rate of $60 per work hour. Required parts will cost approximately $4,864 per helicopter if the T/R is replaced. Based on these figures, the total cost impact of the AD on U.S. operators is estimated to be $373,800 assuming the T/R is replaced on the entire fleet.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES.All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2002-SW-21-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

>

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-13-51 Arrow Falcon Exporters, Inc. (previously Utah State University); Firefly Aviation Helicopter Services (previously Erickson Air-Crane Co.); Garlick Helicopters, Inc.; Global Helicopter Technology, Inc.; Hagglund Helicopters, LLC (previously Western International Aviation, Inc.); Hawkins and Powers Aviation, Inc.; International Helicopters, Inc.; Robinson Air Crane, Inc.; Smith Helicopters; Southern Helicopter, Inc.; Southwest Florida Aviation; Tamarack Helicopters, Inc. (previously Ranger Helicopters Services, Inc.); U.S. Helicopter, Inc.; and Williams Helicopter Corporation (previously Scott Paper Co.): Amendment 39-12836. Docket No. 2002-SW-21-AD.

Applicability: Model HH-1K, TH-1F, TH-1L, UH-1A, UH-1B, UH-1E, UH-1F, UH-1H, UH-1L, and UH-1P; Southwest Florida Aviation SW204, SW204HP, SW205, and SW205A-1 helicopters manufactured by Bell Helicopter Textron, Inc. for the Armed Forces of the United States, with tail rotor (T/R) grip, part number 205-011-711-101, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required before further flight, unless accomplished previously.

To prevent failure of the T/R grip and subsequent loss of control of the helicopter, accomplish the following:

(a) Clean the T/R grip.

(b) Determine if the T/R grip is made of steel by placing a magnet on the exterior of the main body of the T/R grip. Do not make this determination by placing the magnet on the steel bushing or steel interior liner. If the main body of the T/R grip is not made of steel, replace it with an airworthy steel T/R grip. Only replacement T/R grips made of steel are eligible for installation.

(c) An alternative method of compliance or adjustment of the compliance time that provides an acceptable level of safety may be used if approved by the Manager, Rotorcraft Certification Office, FAA. Operators shall submit their requests through an FAA Principal Maintenance Inspector, who may concur or comment and then send it to the Manager, Rotorcraft Certification Office.

Note 2: Information concerning the existence of approved alternative methods of compliance with this AD, if any, may be obtained from the Rotorcraft Certification Office.

(d) Special flight permits may be issued in accordance with 14 CFR 21.197 and 21.199 to operate the helicopter to a location where the requirements of this AD can be accomplished.

(e) This amendment becomes effective on August 19, 2002, to all persons except those persons to whom it was made immediately effective by Emergency AD 2002-13-51, issued June 27, 2002, which contained the requirements of this amendment.

Issued in Fort Worth, Texas, on July 25, 2002.
Eric Bries,
Acting Manager, Rotorcraft Directorate, Aircraft Certification Service.

[FR Doc. 02-19489 Filed 8-1-02; 8:45 am]

BILLING CODE 4910-13-U